NATIONAL AERONAUTICS AND SPACE ADMINISTRATION

[Notice (09-063)]

NASA Advisory Council; Science Committee; Heliophysics Subcommittee; Meeting

AGENCY: National Aeronautics and Space Administration.

ACTION: Notice of meeting.

SUMMARY: The National Aeronautics and Space Administration (NASA) announces a meeting of the Heliophysics Subcommittee of the NASA Advisory Council (NAC). This Subcommittee reports to the Science Committee of the NAC. The Meeting will be held for the purpose of soliciting from the scientific community and other persons scientific and technical information relevant to program planning.

DATES: Monday, July 13, 2009, 8:30 a.m. to 5 p.m., and Tuesday, July 14, 2009, 8:30 a.m. to 5 p.m. Eastern Daylight Time.

ADDRESSES: L'Enfant Plaza Hotel, Renoir Room, 480 L'Enfant Plaza, SW., Washington, DC 20024.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Heliophysics Division Overview and Program Status;

—Annual Review of Heliophysics Science Performance for Fiscal Year 2009;

—Status of Proposed Revision to Heliophysics Data Policy;

—Discussion of Decadal Survey Assessment and NASA Response;

—Update on Interagency Planning for Space Weather Monitor at the L1 Libration Point.

It is imperative that the meeting be held on these dates to accommodate the scheduling priorities of the key participants. Attendees will be requested to sign a register. For future information, you may contact Marian Norris via e-mail at mnorris@nasa.gov or by telephone at (202) 358-4452.

P. Diane Rausch,
Advisory Committee Management Officer, National Aeronautics and Space Administration.

[FR Doc. E9-16215 Filed 7-8-09; 8:45 am]

BILLING CODE 7510-13-P